ENVIRONMENTAL PROTECTION AGENCY

[Docket No. OW-2003-0071; FRL-7555-6]

Availability of Decision on Petition for Rulemaking To Repeal Regulation Related to Ballast Water

AGENCY: Environmental Protection Agency (EPA).

ACTION: Notice of availability of EPA decision document.

SUMMARY: This notice announces the availability of EPA's Decision Documenton on a petition for rulemaking seeking repeal of a regulation that excludes vessel ballast water discharges from Clean Water Act permit requirements. Today's notice makes that Decision Document publicly available and announces EPA's denial of the petition.

DATES: EPA's Acting Administrator signed the Decision Document on September 2, 2003. For judicial review purposes, this action is final as of 1 p.m. (eastern time) on Tuesday, September 9, 2003, as provided at 40 CFR 23.2.

ADDRESSES: The administrative record is available for inspection and copying at the Water Docket, located at the EPA Docket Center in the basement of the EPA West Building, Room B-102, at 1301 Constitution Avenue., NW., Washington, DC.

FOR FURTHER INFORMATION CONTACT: Ruby Cooper, U.S. EPA, Office Of Water, by phone at 202-564-0757 or by e-mail at cooper.ruby@epa.gov.

SUPPLEMENTARY INFORMATION:

A. How Can I Get Copies of the Document and other Related Information?

1. Electronic Copies : EPA's decision on the petition for rulemaking can be downloaded at http://www.epa.gov/npdes; once at this location, click on “Recent Additions'.

2. Docket: EPA has established an official public docket for this action under Docket ID No. OW-00-16. The official public docket consists of the documents specifically referenced in this action, any public comments received and other information related to this action. The official public docket is the collection of materials that is available for public viewing at the Water Docket in the EPA Docket Center, (EPA/DC) EPA West, Room B102, 1301 Constitution Ave., NW., Washington, DC. The EPA Docket Center Public Reading Room is open 8:30 a.m. to 4:30 p.m., Monday through Friday, excluding legal holidays. The telephone number for the Public Reading Room is (202) 566-1744, and the telephone number for the Water Docket is (202) 566-2426.

3. Electronic Access: You may access this Federal Register document electronically through the EPA Internet under the Federal Register listings at http:///www.epa.gov/fedrgstr/. An electronic version of the public docket is available through EPA's electronic public docket and comment system EPA Dockets. You may use EPA Dockets at http://www.epa.gov.edocket/ to view public comments, access the index listing of the contents of the official public docket, and to access those documents in the public docket that are available electronically. Once in the system, select “search”, then key in the appropriate docket identification number, which for this record is OW-2003-0071.

Dated: September 2, 2003.
James A. Hanlon,
Director, Office of Wastewater Management.

[FR Doc. 03-22935 Filed 9-8-03; 8:45 am]

BILLING CODE 6560-50-P